DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the name of three individuals and seven entities whose property and interests in property have been blocked pursuant to the Foreign Narcotics Kingpin Designation Act (Kingpin Act) (21 U.S.C. 1901-1908, 8 U.S.C. 1182). In addition, OFAC is publishing the name of three U.S. entities that have been identified as blocked property pursuant to the Kingpin Act.

DATES: The designation by the Acting Director of OFAC of the three individuals and seven entities and the identification of three U.S. entities as blocked property listed in the notice pursuant to section 805(b) of the Kingpin Act on October 5, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 5, 2015, the Acting Director of OFAC designated the following three individuals and seven entities whose property and interests in property are blocked pursuant to section 805(b) of the Kingpin Act. In addition, the Acting Director of OFAC also identified three U.S. entities as blocked property pursuant to section 805(b) of the Kingpin Act.

Foreign Individuals

1. ROSENTHAL COELLO, Yankel Antonio, Contiguo Rio Santa Ana, Lote Residencial Fina Vieja, San Pedro Sula, Cortes, Honduras; Blvd. Santa Ana, Residencial Fina Vieja No 5, San Pedro Sula, Cortes, Honduras; 1395 Brickell Ave. 3404, Miami, FL 33131, United States; DOB 31 Oct 1968; POB Honduras; Passport B139300 (Honduras); National ID No. 0501196808151 (Honduras); RTN 05011968081512 (Honduras) (individual) [SDNTK] (Linked To: SHELIMAR INVESTMENTS, LTD.; Linked To: SHELIMAR REAL ESTATE HOLDINGS II, INC.; Linked To: SHELIMAR REAL ESTATE HOLDINGS III, INC.; Linked To: DESLAND OVERSEAS, LTD.; Linked To: PREYDEN INVESTMENTS, LTD. Designated for materially assisting in, or providing financial or technological support for or to, or providing goods or services in support of, the international narcotics trafficking activities of multiple previously designated SDNTKs, and/or for playing a significant role in international narcotics trafficking, and therefore meets the statutory criteria for designation as a SDNT pursuant to sections 805(b)(2) and/or (4) of the Kingpin Act, 21 U.S.C. 1904(b)(2) and/or (4).

2. ROSENTHAL HIDALGO, Yani Benjamin, 5 Calle, 24 Avenida S.O. #226, San Pedro Sula, Honduras; DOB 14 Jul 1965; POB Honduras; Passport B255530 (Honduras); National ID No. 0501196506001 (Honduras); RTN 05011965060013 (Honduras) (individual) [SDNTK] (Linked To: INVERSIONES CONTINENTAL (PANAMA), S.A. DE C.V.; Linked To: INVERSIONES CONTINENTAL, S.A. DE C.V.; Linked To: EMPACADORA CONTINENTAL, S.A. DE C.V.; Linked To: BANCO CONTINENTAL, S.A.). Designated for materially assisting in, or providing financial or technological support for or to, or providing goods or services in support of, the international narcotics trafficking activities of multiple previously designated SDNTKs, and/or for playing a significant role in international narcotics trafficking, and therefore meets the statutory criteria for designation as a SDNT pursuant to sections 805(b)(2) and/or (4) of the Kingpin Act, 21 U.S.C. 1904(b)(2) and/or (4).

3. ROSENTHAL OLIVA, Jaime Rolando, Barrio Rio Piedras, Calle 26, Ave 45, San Pedro Sula, Honduras; DOB 05 May 1936; POB San Pedro Sula, Cortes, Honduras; Passport E337842 (Honduras); National ID No. 0501193600600 (Honduras); RTN 05011936006000 (Honduras) (individual) [SDNTK] (Linked To: INVERSIONES CONTINENTAL (PANAMA), S.A. DE C.V.; Linked To: INVERSIONES CONTINENTAL, S.A. DE C.V.; Linked To: EMPACADORA CONTINENTAL, S.A. DE C.V.; Linked To: BANCO CONTINENTAL, S.A.; Linked To: INVERCIONES CONTINENTAL, U.S.A., CORP.). Designated for materially assisting in, or providing financial or technological support for or to, or providing goods or services in support of, the international narcotics trafficking activities of multiple previously designated SDNTKs, and/or for playing a significant role in international narcotics trafficking, and therefore meets the statutory criteria for designation as a SDNT pursuant to sections 805(b)(2) and/or (4) of the Kingpin Act, 21 U.S.C. 1904(b)(2) and/or (4).

Foreign Entities

1. BANCO CONTINENTAL, S.A., Centro Comercial Nova Prisa 390, San Pedro Sula, Cortes, Honduras; 9-10 Avenida NO, Boulevard Morazan, San Pedro Sula, Cortes, Honduras; SWIFT/BIC CSPSHNTE; RTN 08019003077544 (Honduras); All branches in Honduras. [SDNTK]. Designated for materially assisting in, or providing financial or technological support for or to, or providing goods or services in support of, the international narcotics trafficking activities of multiple previously designated SDNTKs, and/or being owned, controlled or directed by, or acting for or on behalf of, Jaime Rolando ROSENTHAL OLIVA and/or Yani Benjamin ROSENTHAL HIDALGO, who are also being designated, and therefore meets the statutory criteria for designation as a SDNT pursuant to sections 805(b)(2) and/or (3) of the Kingpin Act, 21 U.S.C. 1904(b)(2) and/or (3).

2. DESLAND OVERSEAS, LTD., 3rd Floor, Geneva Place, Waterfront Drive, Road Town, Tortola, Virgin Islands, British [SDNTK]. Designated for being owned, controlled or directed by, or acting for or on behalf of, Yankel Antonio ROSENTHAL COELLO, who is also being designated, and therefore meets the statutory criteria for designation as a SDNT pursuant to sections 805(b)(2) and/or (3) of the Kingpin Act, 21 U.S.C. 1904(b)(2) and/or (3).

3. EMPACADORA CONTINENTAL, S.A. DE C.V. (a.k.a. ALIMENTOS CONTINENTAL, S.A. DE C.V.), Carretera Campo 2, San Pedro Sula, Cortes, Honduras; P.O. Box 605, San Pedro Sula, Cortes, Honduras; Zona Industrial Continental, La Lima, San Pedro Sula, Cortes, Honduras; Lomas del Toncontin, Carretera Hacia Villeda Morales a 150 metros de Tipicos La Costa, Tegucigalpa, Honduras; National ID No. 08011900307609 (Honduras); RTN 080119003076090 (Honduras) [SDNTK]. Designated for materially assisting in, or providing financial or technological support for or to, or providing goods or services in support of, the international narcotics trafficking activities of multiple previously designated SDNTKs, and/or being owned, controlled or directed by, or acting for or on behalf of, Jaime Rolando ROSENTHAL OLIVA and/or Yani Benjamin ROSENTHAL HIDALGO, who are also being designated, and therefore meets the statutory criteria for designation as a SDNT pursuant to sections 805(b)(2) and/or (3) of the Kingpin Act, 21 U.S.C. 1904(b)(2) and/or (3).

4. INVERSIONES CONTINENTAL (PANAMA), S.A. DE C.V. (a.k.a. HOLDING INVERSIONES CONTINENTAL (PANAMA), S.A.; a.k.a. “GRUPO CONTINENTAL”), Calle 50 con Aquilino de la Guardia, Plaza Blanco General, Piso 20, Panama, Panama; RUC # 25882543162 (Panama) [SDNTK]. Designated for being owned, controlled or directed by, or acting for or on behalf of, Jaime Rolando ROSENTHAL OLIVA and/or Yani Benjamin ROSENTHAL HIDALGO, who are also being designated, and therefore meets the statutory criteria for designation as a SDNT pursuant to sections 805(b)(2) and/or (3) of the Kingpin Act, 21 U.S.C. 1904(b)(2) and/or (3).

5. INVERSIONES CONTINENTAL, S.A. DE C.V. (a.k.a. GRUPO FINANCIERO CONTINENTAL; a.k.a. “GRUPO FINANCIERO”), Entre la 9 y 10 Avenida, 1ra Calle, Boulevard Morazan, CC Nova, San Pedro Sula, Honduras; National ID No. 0101999501331 (Honduras); RTN 01019995013319 (Honduras) [SDNTK]. Designated for being owned, controlled or directed by, or acting for or on behalf of, Jaime Rolando ROSENTHAL OLIVA and/or Yani Benjamin ROSENTHAL HIDALGO, who are also being designated, and therefore meets the statutory criteria for designation as a SDNT pursuant to sections 805(b)(2) and/or (3) of the Kingpin Act, 21 U.S.C. 1904(b)(2) and/or (3).

6. PREYDEN INVESTMENTS, LTD., 3rd Floor, Geneva Place, Waterfront Drive, Road Town, Tortola, Virgin Islands, British [SDNTK]. Designated for being owned, controlled or directed by, or acting for or on behalf of, Yankel Antonio ROSENTHAL COELLO, who is also being designated, and therefore meets the statutory criteria for designation as a SDNT pursuant to sections 805(b)(2) and/or (3) of the Kingpin Act, 21 U.S.C. 1904(b)(2) and/or (3).

7. SHELIMAR INVESTMENTS, LTD., Vanterpool Plaza 2nd Floor, Wickhams Cay, Road Town, Tortola, Virgin Islands, British [SDNTK]. Designated for being owned, controlled or directed by, or acting for or on behalf of, Yankel Antonio ROSENTHAL COELLO, who is also being designated, and therefore meets the statutory criteria for designation as a SDNT pursuant to sections 805(b)(2) and/or (3) of the Kingpin Act, 21 U.S.C. 1904(b)(2) and/or (3).

U.S. Entities Identified as Blocked Property

1. INVERCIONES CONTINENTAL, U.S.A., CORP., Plantation, Florida, United States; Apartado 390, San Pedro Sula, Cortes, Honduras; P.O. Box 390, San Pedro Sula, Cortes, Honduras; Tax ID No. 650018270 (United States) [SDNTK]. Blocked for being owned, controlled or directed by, or acting for or on behalf of, Jaime Rolando ROSENTHAL OLIVA, who is also being designated, and therefore meets the statutory criteria for designation as a SDNT pursuant to sections 805(b)(2) and/or (3) of the Kingpin Act, 21 U.S.C. 1904(b)(2) and/or (3).

2. SHELIMAR REAL ESTATE HOLDINGS II, INC., Miami, FL, United States [SDNTK].Blocked for being owned, controlled or directed by, or acting for or on behalf of, Yankel Antonio ROSENTHAL COELLO, who is also being designated, and therefore meets the statutory criteria for designation as a SDNT pursuant to sections 805(b)(2) and/or (3) of the Kingpin Act, 21 U.S.C. 1904(b)(2) and/or (3).

3. SHELIMAR REAL ESTATE HOLDINGS III, INC., Golden Beach, FL, United States; Tax ID No. 270800357 (United States) [SDNTK]. Blocked for being owned, controlled or directed by, or acting for or on behalf of, Yankel Antonio ROSENTHAL COELLO, who is also being designated, and therefore meets the statutory criteria for designation as a SDNT pursuant to sections 805(b)(2) and/or (3) of the Kingpin Act, 21 U.S.C. 1904(b)(2) and/or (3).

Dated: October 7, 2015.
Andrea Gacki,
Acting Director, Office of Foreign Assets Control.

[FR Doc. 2015-25947 Filed 10-9-15; 8:45 am]

BILLING CODE 4810-AL-P